DEPARTMENT OF THE TREASURY

Submission for OMB Review; Comment Request

February 5, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 23, 2001 to be assured of consideration.

Internal Revenue Service (IRS)

OMB Number: 1545-0045.

Form Number: IRS Form 976.

Type of Review: Extension.

Title: Claim for Deficiency Dividends Deductions by a Personal Holding Company, Regulated Investment Company, or Real Estate Investment Trust.

Description: Form 976 is filed by corporations that wish to claim a deficiency dividend deduction. The IRS uses Form 976 to determine if shareholders have included amounts in gross income.

Respondents: Business or other for-profit.

Estimated Number of Respondents/Recordkeepers: 500.

Estimated Burden Hours Per Respondent/Recordkeeper:

Recordkeeping | 5 hr., 44 min.
Learning about the law or the form | 53 min.
Preparing, copying, assembling and sending the form to the IRS | 1 hr., 2 min.

Frequency of Response: On occasion.

Estimated Total Reporting/Recordkeeping Burden: 3,830 hours.

OMB Number: 1545-0145.

Form Number: IRS Form 2439.

Type of Review: Extension.

Title: Notice to Shareholder of Undistributed Long-Term Capital Gains.

Description: Form 2439 is sent by regulated investment companies and real estate investment trusts to report undistributed capital gains and the amount of tax paid on these gains designated under Internal Revenue Code section 852(b)(3)(D) or 857(b)(3)(D). The company, the trust, and the shareholder file copies of Form 2439 with IRS. IRS uses the information to check shareholder compliance.

Respondents: Business or other for-profit.

Estimated Number of Respondents/Recordkeepers: 8,363.

Estimated Burden Hours Per Respondent/Recordkeeper:

Recordkeeping | 2 hr., 52 min.
Learning about the law or the form | 35 min.
Preparing and sending the form to the IRS | 40 min.

Frequency of Response: Annually.

Estimated Total Reporting/Recordkeeping Burden: 34,539 hours.

Clearance Officer: Garrick Shear, Internal Revenue Service, Room 5244, 1111 Constitution Avenue, NW., Washington, DC 20224.

OMB Reviewer: Alexander T. Hunt (202) 395-7860, Office of Management and Budget, Room 10202, New Executive Office Building, Washington, DC 20503.

Lois K. Holland,
Departmental Reports, Management Officer.

[FR Doc. 01-4179 Filed 2-20-01; 8:45 am]

BILLING CODE 4830-01-U